SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: October 1, 2009 through October 31, 2009.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued

1. Chesapeake Appalachia, LLC, Pad ID: Gowan, ABR-20091001, Terry Township, Bradford County, Pa.; Consumptive Use of up to 7.500 mgd; Approval Date: October 5, 2009.

2. Chief Oil & Gas, LLC, Pad ID: Poor Shot East Unit Drilling Pad #1, ABR-20091002, Anthony Township, Lycoming County, Pa. Consumptive Use of up to 5.000 mgd; Approval Date: October 5, 2009.

3. East Resources, Inc., Pad ID: Pazzaglia 507, ABR-20091003, Rutland Township, Tioga County, Pa.; Consumptive Use of up to 4.000 mgd; Approval Date: October 6, 2009.

4. East Resources, Inc., Pad ID: Soderburg 501, ABR-20091004, Sullivan Township, Tioga County, Pa.; Consumptive Use of up to 4.000 mgd; Approval Date: October 6, 2009.

5. East Resources, Inc., Pad ID: Fitch-1H, ABR-20091005, Union Township, Tioga County, Pa.; Consumptive Use of up to 4.000 mgd; Approval Date: October 6, 2009.

6. East Resources, Inc., Pad ID: Palmer 112, ABR-20091006, Canton Township, Bradford County, Pa.; Consumptive Use of up to 4.000 mgd; Approval Date: October 6, 2009.

7. East Resources, Inc., Pad ID: Allen 264, ABR-20091007, Jackson Township, Tioga County, Pa.; Consumptive Use of up to 4.000 mgd; Approval Date: October 7, 2009.

8. East Resources, Inc., Pad ID: Howe 257, ABR-20091008, Jackson Township, Tioga County, Pa.; Consumptive Use of up to 4.000 mgd; Approval Date: October 7, 2009.

9. East Resources, Inc., Pad ID: Ostrander 412, ABR-20091009, Jackson Township, Tioga County, Pa.; Consumptive Use of up to 4.000 mgd; Approval Date: October 7, 2009.

10. Chief Oil & Gas, LLC, Pad ID: Ritchey Unit Drilling Pad, ABR-20091010, Juniata Township, Blair County, Pa.; Consumptive Use of up to 1.990 mgd; Approval Date: October 7, 2009.

11. East Resources, Inc., Pad ID: Bryan 406, ABR-20091011, Jackson Township, Tioga County, Pa.; Consumptive Use of up to 4.000 mgd; Approval Date: October 8, 2009.

12. East Resources, Inc., Pad ID: Benson 130D, ABR-20091012, Richmond Township, Tioga County, Pa.; Consumptive Use of up to 4.000 mgd; Approval Date: October 13, 2009.

13. East Resources, Inc., Pad ID: Cooper 400, ABR-20091013, Tioga Township, Tioga County, Pa.; Consumptive Use of up to 4.000 mgd; Approval Date: October 13, 2009.

14. Citrus Energy, Pad ID: Procter and Gamble Mehoopany Plant IV, ABR-20091014, Washington Township, Wyoming County, Pa.; Consumptive Use of up to 5.000 mgd; Approval Date: October 13, 2009.

15. East Resources, Inc., Pad ID: Burleigh 508, ABR-20091015, Rutland Township, Tioga County, Pa.; Consumptive Use of up to 4.000 mgd; Approval Date: October 14, 2009.

16. East Resources, Inc., Pad ID: Busia 457, ABR-20091016, Jackson Township, Tioga County, Pa.; Consumptive Use of up to 4.000 mgd; Approval Date: October 19, 2009.

17. Chesapeake Appalachia, LLC, Pad ID: Harry, ABR-20091017, West Burlington Township, Bradford County, Pa.; Consumptive Use of up to 7.500 mgd; Approval Date: October 20, 2009.

18. East Resources, Inc., Pad ID: Phillips 504, ABR-20091018, Rutland Township, Tioga County, Pa.; Consumptive Use of up to 4.000 mgd; Approval Date: October 19, 2009.

19. East Resources, Inc., Pad ID: Hungerford 458, ABR-20091019, Jackson Township, Tioga County, Pa.; Consumptive Use of up to 4.000 mgd; Approval Date: October 19, 2009.

20. Chesapeake Appalachia, LLC, Pad ID: James Smith, ABR-20091020, Terry Township, Bradford County, Pa.; Consumptive Use of up to 7.500 mgd; Approval Date: October 20, 2009.

21. Chesapeake Appalachia, LLC, Pad ID: Jayne, ABR-20091021, Auburn Township, Bradford County, Pa.; Consumptive Use of up to 7.500 mgd; Approval Date: October 20, 2009.

22. Victory Energy Corporation, Pad ID: Brown #1, ABR-20091022, West Branch Township, Potter County, Pa.; Consumptive Use of up to 0.999 mgd; Approval Date: October 20, 2009.

23. Cabot Oil and Gas Corporation, Pad ID: ShieldsG P2, ABR-20091023, Dimock Township, Susquehanna County, Pa.; Consumptive Use of up to 3.575 mgd; Approval Date: October 22, 2009.

24. Fortuna Energy, Inc., Pad ID: DCNR 587 Pad #9, ABR-20091024, Ward Township, Tioga County, Pa.; Consumptive Use of up to 3.000 mgd; Approval Date: October 24, 2009.

25. Fortuna Energy, Inc., Pad ID: Knights 24, ABR-20091025, Troy Township, Bradford County, Pa.; Consumptive Use of up to 3.000 mgd; Approval Date: October 24, 2009.

26. Penn Virginia Oil & Gas Corporation, Pad ID: Cady #1; ABR-20091026, Brookfield Township, Tioga County, Pa.; Consumptive Use of up to 2.000 mgd; Approval Date: October 27, 2009.

27. East Resources, Inc., Pad ID: Schildt 259, ABR-20091027, Jackson Township, Tioga County, Pa.; Consumptive Use of up to 4.000 mgd; Approval Date: October 27, 2009.

28. EOG Resources, Inc., Pad ID: PHC 6H, ABR-20090721.1, Lawrence Township, Clearfield County, Pa.; Consumptive Use of up to 1.999 mgd; Modification Date: October 28, 2009.

29. EOG Resources, Inc., Pad ID: PHC 7H, ABR-20090722.1, Lawrence Township, Clearfield County, Pa.; Consumptive Use of up to 1.999 mgd; Modification Date: October 28, 2009.

30. EOG Resources, Inc., Pad ID: PHC 8H, ABR-20090723.1, Lawrence Township, Clearfield County, Pa.; Consumptive Use of up to 1.999 mgd; Modification Date: October 28, 2009.

31. Novus Operating, LLC, Pad ID: Wilcox #1, ABR-20090803, Covington Township, Tioga County, Pa.; Consumptive Use of up to 0.999 mgd; Transferred Date: October 22, 2009.

32. Novus Operating, LLC, Pad ID: Brookfield #1, ABR-20090804, Brookfield Township, Tioga County, Pa.; Consumptive Use of up to 0.999 mgd; Transferred Date: October 22, 2009.

Authority: Public Law 91-575, 84 Stat. 1509 et seq., 18 CFR Parts 806, 807, and 808.

Dated: November 17, 2009.
Stephanie L. Richardson,
Secretary to the Commission.

[FR Doc. E9-28514 Filed 11-27-09; 8:45 am]

BILLING CODE 7040-01-P